DEPARTMENT OF THE INTERIOR

Minerals Management Service

Gulf of Mexico (GOM), Outer Continental Shelf (OCS), Central Planning Area (CPA) and Western Planning Area (WPA), Oil and Gas Lease Sales for Years 2009-2012

AGENCY: Minerals Management Service (MMS), Interior.

ACTION: Notice of Availability (NOA) of the Draft Supplemental Environmental Impact Statement (SEIS) and Public Hearings.

SUMMARY: The MMS has prepared a draft SEIS on oil and gas lease sales tentatively scheduled in 2009-2012 in the CPA and WPA offshore the States of Texas, Louisiana, Mississippi, and Alabama. As mandated in the Gulf of Mexico Energy Security Act of 2006 (GOMESA) (Pub. L. 109-432, December 20, 2006), the MMS shall offer, as soon as practicable, approximately 5.8 million acres located in the southeastern part of the CPA (“181 South Area”). The CPA Sale 208 (March 2009) will be the first sale to include the “181 South Area.” The draft SEIS analyzed the potential environmental effects of oil and natural gas leasing, exploration, development, and production in the “181 South Area” and newly available information.

Authority: This NOA and notice of public hearings is published pursuant to the regulations (40 CFR 1503) implementing the provisions of the National Environmental Policy Act (NEPA) of 1969, as amended (42 U.S.C. 4321 et seq. (1988)).

SUPPLEMENTARY INFORMATION: As mandated in GOMESA, the MMS shall offer the “181 South Area” for oil and gas leasing pursuant to the OCS Lands Act (43 U.S.C. 1331 et seq.). In March 2009, proposed Lease Sale 208 would be the first CPA sale to offer the “181 South Area.” The draft SEIS supplements the Gulf of Mexico OCS Oil and Gas Lease Sales: 2007-2012; Western Planning Area Sales 204, 207, 210, 215, and 218; Central Planning Area Sales 205, 206, 208, 213, 216, and 222, Final Environmental Impact Statement (OCS EIS/EA MMS 2007-018, Multisale EIS). The Multisale EIS did not analyze the “181 South Area”, therefore the MMS has prepared the draft SEIS to address the addition of the “181 South Area” to the proposed CPA sale area. Also an extensive search was conducted for new information published since completion of the Multisale EIS, including various Internet sources, scientific journals, and interviews with personnel from academic institutions, and Federal, State, and local agencies.

Based on new information and the expanded CPA sale area, the MMS has reexamined potential impacts of routine activities and accidental events associated with the proposed CPA and WPA lease sales, and a proposed lease sale's incremental contribution to the cumulative impacts on environmental and socioeconomic resources. Like the Multisale EIS, the resource estimates and scenario information for the SEIS analyses are presented as a range that would encompass the resources and activities estimated for any of the seven proposed lease sales. At the completion of the SEIS process, a decision will be made for proposed CPA Sale 208 (2009) and WPA Sale 210 (2009).

Draft SEIS Availability: To obtain a single, printed or CD-ROM copy of the draft SEIS, you may contact the Minerals Management Service, Gulf of Mexico OCS Region, Public Information Office (Mail Stop 5034), 1201 Elmwood Park Boulevard, Room 114, New Orleans, Louisiana 70123-2394 (1-800-200-GULF). An electronic copy of the draft EIS is available at the MMS's Internet Web site at http://www.gomr.mms.gov/homepg/regulate/environ/nepa/nepaprocess.html. Several libraries along the Gulf Coast have been sent copies of the draft SEIS. To find out which libraries, and their locations, have copies of the draft SEIS for review, you may contact the MMS's Public Information Office or visit the MMS Internet Web site at http://www.gomr.mms.gov/homepg/regulate/environ/libraries.html.

Public Hearings: The MMS will hold public hearings to receive comments on the draft SEIS. The public hearings are scheduled as follows:

• Tuesday, May 13, 2008, Larose Civic Center, 307 East 5th Street, Larose, Louisiana, 6 p.m.

• Wednesday, May 14, 2008, Louisiana State University, Center for Energy Studies, 1077 Energy, Coast and Environment Building, Baton Rouge, Louisiana, 1 p.m.

• Thursday, May 15, 2008, Renaissance Riverview Plaza Hotel, 64 South Water Street, Mobile, Alabama, 6 p.m.

If you wish to testify at a hearing, you may register one hour prior to the meeting. Each hearing will briefly recess when all speakers have had an opportunity to testify. If there are no additional speakers, the hearing will adjourn immediately after the recess. Written statements submitted at a hearing will be considered part of the hearing record. If you are unable to attend the hearings, you may submit written statements.

Comments: Federal, State, and local government agencies and other interested parties are requested to send their written comments on the draft SEIS in one of the following two ways:

1. In written form enclosed in an envelope labeled “Comments on the Supplemental Multisale EIS” and mailed (or hand carried) to the Regional Supervisor, Leasing and Environment (Mail Stop 5410), Minerals Management Service, Gulf of Mexico OCS Region, 1201 Elmwood Park Boulevard, New Orleans, Louisiana 70123-2394.

2. Electronically to the MMS e-mail address: environment@mms.gov.

Comments should be submitted no later than 60 days from the publication of this NOA.

FOR FURTHER INFORMATION CONTACT: For more information on the draft SEIS or the public hearings, you may contact Dennis Chew, Minerals Management Service, Gulf of Mexico OCS Region, 1201 Elmwood Park Boulevard (Mail Stop 5412), New Orleans, Louisiana 70123-2394, or by e-mail at environment@mms.gov. You may also contact Mr. Chew by telephone at (504) 736-2793.

Dated: March 14, 2008.
Chris C. Oynes,
Associate Director for Offshore Minerals Management.

[FR Doc. E8-7775 Filed 4-10-08; 8:45 am]

BILLING CODE 4310-MR-P